ENVIRONMENTAL PROTECTION AGENCY

[ER-FRL-8998-4]

Environmental Impacts Statements; Notice of Availability

Responsible Agency: Office of Federal Activities, General Information (202) 564-1399 or http://www.epa.gov/compliance/nepa/.

Weekly receipt of Environmental Impact Statements.

Filed 08/01/2011 through 08/05/2011.

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110249, Draft Supplement, USFS, OR, Cobbler II Timber Sale and Fuels Reduction Project, Updated Information to Revise and Clarify Aspects of the Analyses Presented in the FEIS of October 2010, Proposing Vegetation and Fuels Management to Improve Health and Vigor Upland Forest Stands and Reduce Hazardous and Ladder Fuels, Walla Walla Ranger District, Umatilla National Forest, Wallowa and Union Counties, OR, Comment Period Ends: 09/26/2011, Contact: Betsy Kaiser 509-522-6290.

EIS No. 20110250, Draft EIS, NRC, NH, Generic—License Renewal of Nuclear Plants Regarding Seabrook Station, Supplemental 46, City of Seabrook, Rockingham County, NH, Comment Period Ends: 10/26/2011, Contact: Michael Wentzel 301-415-6459.

EIS No. 20110251, Final EIS, USFS, WI, Phelps Vegetation and Transportation Management Project, Proposal to Implement Vegetation and Transportation Management Activities, Eagle River-Florence Ranger District, Vilas County, WI, Review Period Ends: 09/12/2011, Contact: Christine Brenner 715-479-2827 Ext. 21.

EIS No. 20110252, Final EIS, BLM, WY, Buckskin Mine Hay Creek II Project, Coal Lease Application WYW-172684, Wyoming Powder River Basin, Campbell County, WY, Review Period Ends: 09/12/2011, Contact: Teresa Johnson 307-261-7600.

EIS No. 20110253, Final Supplement, MMS, 00, Gulf of Mexico Outer Continental Shelf Oil and Gas Lease Sales: 2011 Western Planning Area Sales 218, TX, Review Period Ends: 09/12/2011, Contact: Gary Goeke 504-736-3233.

EIS No. 20110254, Final EIS, FWS, WA, Willapa National Wildlife Refuge Draft Comprehensive Conservation Plan, Implementation, Pacific County, WA, Review Period Ends: 09/12/2011, Contact: Charles Houghten 503-231-6207.

EIS No. 20110255, Draft EIS, USFS, SD, Streamboat Project, Proposes to Implement Multiple Resource Management Actions, Northern Hills Ranger District, Black Hills National Forest, Lawrence, Meade and Pennington Counties, SD, Comment Period Ends: 09/26/2011, Contact: Rhonda O'Byrne 605-642-4622.

EIS No. 20110256, Draft EIS, FRA, CA, California High-Speed Train (HST): Fresno to Bakersfield Section High-Speed Train, Proposes to Construct, Operate, and Maintain an Electric-Powered High-Speed Train (HST), Fresno, Kings, Tulare and Kern Counties, CA, Comment Period Ends: 09/28/2011, Contact: David Valenstein 202-493-6368.

EIS No. 20110257, Draft EIS, FRA, CA, California High-Speed Train (HST): Merced to Fresno Section High-Speed Train, Proposes to Construct, Operate, and Maintain an Electric-Powered High-Speed Train (HST), Merced, Madera and Fresno Counties, CA, Comment Period Ends: 09/28/2011, Contact: David Valenstein 202-493-6868.

EIS No. 20110258, Final EIS, DOE, CA, Topaz Solar Farm Project, Issuing a Loan Guarantee to Royal Bank of Scotland for Construction and Startup, San Luis Obispo County, CA, Review Period Ends: 09/12/2011, Contact: Angela F. Colamaria 202-287-5387.

Amended Notices

EIS No. 20110190, Draft EIS, FRA, MS, Tupelo Railroad Relocation Planning and Environmental Study, To Improve Mobility and Safety by Reducing Roadway Congestion, City of Tupelo, MS, Comment Period Ends: 08/08/2011, Contact: John Winkle 202-493-6067. Revision to FR Notice Published 06/24/2011: Extending Comment Period from 08/08/2011 to 09/12/2011.

Dated: August 9, 2011.
Cliff Rader,
Acting Director, NEPA Compliance Division, Office of Federal Activities.

[FR Doc. 2011-20599 Filed 8-11-11; 8:45 am]

BILLING CODE 6560-50-P